DEPARTMENT OF ENERGY

Federal Energy Regulatory Commission

Notice of Application for Partial Transfer of License Amendment of License and Transmission Line License Soliciting Comments, Motions To Intervene, and Protests

December 28, 2006.

Take notice that the following hydroelectric application has been filed with the Commission and is available for public inspection:

a. Application Type: Partial transfer of license by removing project's transmission line and issuing for it a separate transmission line license.

b. Project No: 2816-037.

c. Date Filed: November 6, 2006.

d. Applicants: North Hartland LLC (North Hartland), and Central Vermont Public Service Corp. (Central Vermont).

e. Name of Project: North Hartland.

f. Location: The project is located at the existing U.S. Army Corps of Engineers' North Hartland Dam on the Ottauquechee River in Windsor County, Vermont.

g. Filed Pursuant to: Federal Power Act, 16 U.S.C. § 791a-825r.

h. Applicants Contact: Richard A. Norman, North Hartland LLC, 55 Union Street, 4th Floor, Boston, MA 02018. Morris L. Silver Esq., The Kellog Farm, P.O. Box 606, Benson, VT 05731, Tel: (802) 537-2264. Elizabeth W. Little, Nixon Peabody, LLP, 401 9th Street, Suite 900, Washington, DC 20004, (202) 585-8338, and Gregory White, Central Vermont Public Service Corp., 77 Grove Street, Rutland, VT 05701.

i. FERC Contact: Any questions on this notice should be addressed to Vedula Sarma at (202) 502-6190 or vedula.sarma@ferc.gov.

j. Deadline for filing comments and/or motions: January 29, 2007.

k. Description of Filing: North Harland proposes to transfer a portion of its license containing approximately six miles of 12.5-kV transmission line mounted on top of Central Vermont's utility system at Pole #115 on Clay Hill Road to Central Vermont's Queechee Substation. Central Vermont seeks a transmission line license for the transmission line transferred to it from North Harland. North Hartland seeks to amend its license to remove the transferred transmission line.

l. Locations of Applications: A copy of the application is available for inspection and reproduction at the Commission in the Public Reference Room, located at 888 First Street NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call toll-free 1-866-208-3676 or e-mail FERCOnlineSupport@ferc.gov. For TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, or “MOTION TO INTERVENE”, as applicable, and the Project Number of the particular application to which the filing refers. All documents (original and eight copies) should be filed with: Magalie R. Salas, Secretary, Federal Energy Regulatory Commission, 888 First Street, NE., Washington, DC 20426. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E6-22680 Filed 1-5-07; 8:45 am]

BILLING CODE 6717-01-P